DEPARTMENT OF HEALTH AND HUMAN SERVICES

Centers for Disease Control and Prevention

Disease, Disability, and Injury Prevention and Control Special Emphasis Panel: Portfolio Review on Birth Defects and Developmental Disabilities

In accordance with Section 10(a)(2) of the Federal Advisory Committee Act (Pub. L. 92-463), the Centers for Disease Control and Prevention (CDC) announces the following meeting:

Name: Disease, Disability, and Injury Prevention and Control Special Emphasis Panel: Portfolio Review on Birth Defects and Developmental Disabilities.

Times and Dates:

8:30 a.m.-4:30 p.m., January 8, 2007 (Closed).

8 a.m.-5 p.m., January 9, 2007 (Closed).

Place: CDC Harkin Global Communications Center, 1600 Clifton Road, Atlanta, GA 30333.

Status: The meeting will be closed to the public in accordance with provisions set forth in Section 552b(c)(4) and (6), Title 5 U.S.C., and the Determination of the Director, Management Analysis and Services Office, CDC, pursuant to Public Law 92-463.

Matters To Be Discussed: The meeting will include the review of the Division of Birth Defects and Developmental Disabilities' programs, strategies, and activities.

Contact Person for More Information: Esther Sumartojo, Associate Director for Science, National Center on Birth Defects and Developmental Disabilities, CDC, 1600 Clifton Road, NE., Mailstop E-87, Atlanta, GA 30333, Telephone Number 404.498.3072.

The Director, Management Analysis and Services Office, has been delegated the authority to sign Federal Register notices pertaining to announcements of meetings and other committee management activities, for both CDC and the Agency for Toxic Substances and Disease Registry.

Dated: October 20, 2006.
Alvin Hall,
Director, Management Analysis and Services Office, Centers for Disease Control and Prevention.

[FR Doc. E6-18005 Filed 10-26-06; 8:45 am]

BILLING CODE 4163-18-P